DEPARTMENT OF ENERGY

Federal Energy Regulatory Commission

[Project No. 5018-004]

Wellesley Rosewood Maynard Mills, L.P., Massachusetts; Notice of Availability of Draft Environmental Assessment

September 17, 2003.

In accordance with the National Environmental Policy Act of 1969 and the Federal Energy Regulatory Commission's (Commission) regulations, 18 CFR part 380 (Order No. 486, 52 FR 47897), the Office of Energy Projects has reviewed the application for surrender of the exemption from licensing for the Mill Pond Hydroelectric Project and has prepared a Draft Environmental Assessment (DEA) for the project. The project is located on the Assabet River, in Maynard, Massachusetts, within Middlesex County. No federal lands or facilities are occupied or used by the project.

The DEA contains the staff's analysis of the potential environmental impacts of the project and concludes that surrendering the project, with appropriate environmental protective measures, would not constitute a major federal action that would significantly affect the quality of the human environment.

A copy of the DEA is on file with the Commission and is available for public inspection. The DEA may also be viewed on the web at http://www.ferc.gov , using the “eLibrary” link and by selecting the “General Search” link and following the instructions (call (866) 206-3676 for assistance).

Any comments should be filed within 45 days from the date of this notice and should be addressed to Magalie R. Salas, Secretary, Federal Energy Regulatory Commission, 888 First Street, NE., Washington, DC 20426. Please affix Project No. 5018-004 to all comments. Comments may be filed electronically via the Internet in lieu of paper. See 18 CFR 385.2001(a)(1)(iii) and the instructions on the Commission's Web site under the “eFiling” link.

For further information, contact Kenneth Hogan at (202) 502-8434.

Magalie R. Salas,
Secretary.

[FR Doc. 03-24234 Filed 9-24-03; 8:45 am]

BILLING CODE 6717-01-P